DEPARTMENT OF ENERGY

Federal Energy Regulatory Commission

[Project No. 2210-089]

Appalachian Power Company; Notice of Availability of Environmental Assessment

October 16, 2003.

In accordance with the National Environmental Policy Act of 1969 and the Federal Energy Regulatory Commission's (Commission) regulations, 18 CFR Part 380 (Order No. 486, 52 F.R. 47897), the Office of Energy Projects' staff has prepared an Environmental Assessment (EA) for an application requesting Commission approval to permit J.W. Holdings, Inc. (permittee) to install and operate 3 stationary docks with a total of one hundred seventeen (117) covered stationary slips and nineteen (19) floating courtesy docks at the Bridge Club on Smith Mountain Lake. No dredging is planned as part of this proposal. The Smith Mountain Pumped Storage Project, FERC No. 2210, is located on the Roanoke and Blackwater Rivers in Bedford, Campbell, Pittsylvania, Franklin, and Roanoke Counties, Virginia.

The EA contains the staff's analysis of the potential environmental impacts of the proposal and concludes that approval of the proposal would not constitute a major federal action significantly affecting the quality of the human environment.

A copy of the EA is available for review at the Commission in the Public Reference Room, or it may be viewed on the Commission's Web site at http://www.ferc.gov using the “e-library” link. Enter the docket number (prefaced by P-) and excluding the last three digits, in the docket number field to access the document. For assistance, call (202) 502-8371 or (202) 502-8659 (for TTY).

For further information, contact Heather Campbell at 202-502-6182.

Magalie R. Salas,
Secretary.

[FR Doc. E3-00102 Filed 10-23-03;8:45 am]

BILLING CODE 6717-01-P